DEPARTMENT OF AGRICULTURE

Forest Service

Transfer of Administrative Jurisdiction: Ernest Veuve Hall United States Army Reserve Center at Fort Missoula, Missoula, Montana, and the Helena Property, Helena National Forest, Helena, Montana

AGENCY: Forest Service, USDA.

ACTION: Notice of joint jurisdictional interchange of lands between the Forest Service and the Department of the Army.

SUMMARY: On July 25, 2014, Paul D. Cramer, the Deputy Assistant Secretary of the Army and Robert Bonnie, the Under Secretary of Agriculture, signed a joint interchange order authorizing the transfer of administrative jurisdiction of 12.31 acres from the Department of the Army to the United States Department of Agriculture for the inclusion in the Lolo National Forest located at Fort Missoula, Missoula, Montana. Furthermore, the joint order transfers administrative jurisdiction of 59.96 acres from the United States Department of Agriculture to the Department of the Army, located at the Helena Airport.

DATES: The 45-day Congressional oversight requirement of the Act of July 26, 1956 (70 Stat. 656; 16 U.S.C. 505a, 505b) has been met. The order is effective September 15, 2014.

ADDRESSES: Copies of the signed joint order, legal descriptions along with maps showing the lands included in this joint interchange are on file and available for public inspection in the Office of the Regional Forester, Northern Region, 200 E. Broadway, (P.O. Box 7669) Missoula, Montana 59807, between the hours of 8:30 a.m. and 4:30 p.m. on business days. Those wishing to inspect the maps and legal descriptions are encouraged to call ahead to Mr. Guy Adams at 406-329-3581 or by email ghadams@fs.fed.us to facilitate entry into the building.

FOR FURTHER INFORMATION CONTACT: A.L. Richard, Washington Office Lands and Realty Staff, USDA, Forest Service, 201 14th Street SW., Washington, DC 20250, Telephone at 202-205-1792 or by email at arichard@fs.fed.us,

Dated: September 10, 2014.
Brian Ferebee,
Acting Associate Deputy Chief, NFS, Forest Service.

[FR Doc. 2014-22150 Filed 9-15-14; 8:45 am]

BILLING CODE 3411-15-P